DEPARTMENT OF ENERGY

Federal Energy Regulatory Commission

[Docket No. CP02-52-000]

Iroquois Gas Transmission System, L.P.; Notice of Intent To Prepare an Environmental Impact Statement for the Proposed Eastern Long Island Expansion Project and Request for Comments on Environmental Issues

March 13, 2002.

The staff of the Federal Energy Regulatory Commission (FERC or Commission) will prepare an environmental impact statement (EIS) that will discuss the environmental impacts of the Eastern Long Island Expansion Project (ELI Project) involving construction and operation of facilities by Iroquois Gas Transmission System, L.P. (Iroquois) in Fairfield and New Haven Counties, Connecticut, and Dutchess and Suffolk Counties, New York.¹ These facilities would consist of about 29.1 miles of 20-inch-diameter pipeline, including 17.1 miles offshore in Long Island Sound; and 20,000 horsepower (hp) of compression. This EIS will be used by the Commission in its decision-making process to determine whether the project is in the public convenience and necessity.

¹ Iroquois' application was filed with the Commission under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice that Iroquois provided to landowners. This fact sheet addresses a number of typically asked questions, including the use of eminent domain and how to participate in the Commission's proceedings. It is available for viewing on the FERC Internet Web site, www.ferc.gov.

Summary of the Proposed Project

Iroquois wants to expand the capacity of its natural gas facilities in Connecticut and New York to transport an additional 175,000 dekatherms per day of firm transportation service to expanding markets on Long Island, New York. Iroquois seeks authority to construct and operate:

• 29.1 miles of 20-inch-diameter pipeline in New Haven County, Connecticut, and Suffolk County, New York;

• a new meter station along the proposed ELI pipeline at about milepost (MP) 29.1;

• ancillary facilities including a marine tap interconnection and facilities for the attachment of a pig launcher in Long Island Sound in Connecticut state waters; three mainline valves (MPs 17.5, 22.7, and 29.1), and one pig receiving facility housed within the meter station layout at the project terminus at MP 29.1;

• a new 20,000 horsepower compressor station at Iroquois' existing mainline valve site in Milford, Fairfield County, Connecticut;

• new piping, compressor and piping modifications, and ancillary facilities to accept natural gas from the Algonquin Gas Transmission (AGT) Company's AGT System at a proposed new Iroquois compressor station in Brookfield, Fairfield County, Connecticut (note: Iroquois is currently pursuing a separate FERC Certificate for the compressor station under Docket No. CP96-687-000);

• a discharge gas cooler to be added to the proposed new compressor station in Dover, Duchess County, New York (note: Iroquois is pursuing a separate FERC Certificate for the compressor station under Docket No. CP00-232-000); and

• temporary pipe and storage yards, staging areas, access roads, etc., to be used only during construction of the proposed facilities.

The location of the project facilities is shown in appendix 1.²

² The appendices referenced in this notice are not being printed in the Federal Register. Copies are available on the Commission's website at the “RIMS” link or from the Commission's Public Reference and Files Maintenance Branch, 888 First Street, N.E., Washington, D.C. 20426, or call (202) 208-1371. For instructions on connecting to RIMS refer to the last page of this notice. Copies of the appendices were sent to all those receiving this notice in the mail.

Land Requirements for Construction

Construction of the proposed facilities would require about 369.0 acres of land, including 140.4 acres onshore and 228.6 acres offshore. This includes about 3.9 acres to construct the proposed aboveground facilities. Following construction, about 135.1 acres would be maintained as permanent/operational right-of-way (ROW). This includes about 72.9 acres onshore (including 0.2 acres for new aboveground facilities), and 62.2 acres for offshore ROW. The remaining 233.9 acres of land used only temporarily during construction would be restored and allowed to revert to its former use.

Iroquois proposes to use a 75-foot-wide ROW to construct most of its onshore pipeline, including 50 feet that would be maintained as permanent ROW. About 90 percent of the 12 miles of onshore construction would be within or adjacent to existing ROW. For offshore construction, Iroquois proposes to use a ROW that would be either 100, 200, or 300 feet wide for specific segments, and would include 30 feet to be maintained as permanent ROW.

The EIS Process

The National Environmental Policy Act (NEPA) requires the Commission to take into account the environmental impacts that could result from an action whenever it considers the issuance of a Certificate of Public Convenience and Necessity. NEPA also requires us ³ to discover and address concerns the public may have about proposals. We call this “scoping”. The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

³ ”We”, “us”, and “our” refer to the environmental staff of the Office of Energy Projects (OEP).

The EIS will discuss impacts that could occur as a result of the construction and operation of the proposed project under these general headings:

• geology and soils

• water resources, fisheries, and wetlands

• vegetation and wildlife

• endangered and threatened species

• public safety

• land use

• cultural resources

• air quality and noise

• hazardous waste

We will also evaluate possible alternatives to the proposed project or portions of the project, and make recommendations on how to lessen or avoid impacts on the various resource areas.

Our independent analysis of the issues will be in the EIS. Depending on the comments received during the scoping process, the EIS may be published and mailed to Federal, state, and local agencies, public interest groups, interested individuals, affected landowners, newspapers, libraries, and the Commission's official service list for this proceeding. A comment period will be allotted for review if the EIS is published. We will consider all comments on the EIS before we make our recommendations to the Commission.

To ensure your comments are considered, please carefully follow the instructions in the public participation section beginning on page 6.

Currently Identified Environmental Issues

We have already identified several issues that we think deserve attention based on a preliminary review of the proposed facilities and the environmental information provided by Iroquois. This preliminary list of issues may be changed based on your comments and our analysis.

• FERC is currently evaluating another project known as the Islander East Pipeline Project (Docket numbers CP01-384-000 and CP01-387-000), that would involve construction and operation of facilities proposed by Islander East Pipeline Company, L.L.C. (Islander East), and related facilities to be constructed and operated by Algonquin Gas Transmission Company (Algonquin). The facilities proposed within Suffolk County, New York would be within the same ROW proposed for use by Islander East.⁴

⁴ Although Iroquois believes its proposed ELI Project facilities could replace and are superior to the facilities proposed by Islander East, we note that the filed applications have different proposed customers. This means these projects could potentially serve mutually exclusive needs, and we must evaluate them each on their own merits. It is equally possible that the Commission could issue a Certificate for only one proposal, or it could approve both of them. Therefore, if you are a potentially affected landowner on Long Island, there is a possibility that both projects could be built, and the proposed ELI Project facilities would require permanent ROW in addition to what is proposed by Islander East. This issue will be described and evaluated in the EIS we prepare for the ELI Project.

• About 17.1 miles of Long Island Sound would be crossed, with potential impacts to shellfish resources, sediments and benthic organisms, and potential essential fish habitat (EFH) for up to 37 federally managed species with designated EFH.

• Seven residences would be located within 50 feet of the construction work area.

• About 79.1 acres of the Central Pine Barrens would be disturbed, with 53.0 acres retained as permanent ROW.

• A total of 2 perennial and 1 intermittent waterbodies would be crossed.

• About 1.8 acres of wetlands would be disturbed during construction, with about 1.2 acres maintained as permanent ROW.

• About 78.4 acres of upland forest would be cleared during construction, including about 26.9 acres that would be maintained as permanent ROW.

Public Participation

You can make a difference by providing us with your specific comments or concerns about the project. By becoming a commentor, your concerns will be addressed in the EIS and considered by the Commission. You should focus on the potential environmental effects of the proposal, alternatives to the proposal (including alternative routes or facility sites), and measures to avoid or lessen environmental impact. The more specific your comments, the more useful they will be. Please carefully follow these instructions to ensure that your comments are received in time and properly recorded:

• Send an original and two copies of your letter to:

Magalie R. Salas, Secretary, Federal Energy Regulatory Commission, 888 First St., N.E., Room 1A, Washington, DC 20426.

• Label one copy of the comments for the attention of Gas 2.

• Reference Docket No. CP02-52-000.

• Mail your comments so that they will be received in Washington, DC on or before April 12, 2002.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's Web site at http://www.ferc.gov under the “e-Filing” link and the link to the User's Guide. Before you can file comments you will need to create an account which can be created by clicking on “Login to File” and then “New User Account.”

If you do not want to send comments at this time but still want to remain on our mailing list, please return the Information Request (appendix 3). If you do not return the Information Request, you will be taken off the mailing list.

Becoming an Intervenor

In addition to involvement in the EIS scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁵ Only intervenors have the right to seek rehearing of the Commission's decision.

⁵ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 (direct line) or you can call the FERC operator at 1-800-847-8885 and ask for External Affairs. Information is also available on the FERC website, www.ferc.gov, using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2222.

Linwood A. Watson, Jr.,
Deputy Secretary.

[FR Doc. 02-6557 Filed 3-18-02; 8:45 am]

BILLING CODE 6717-01-P